PEACE CORPS

Privacy Act of 1974: New System of Records

AGENCY: Peace Corps.

ACTION: Notice of a new system of records.

SUMMARY: Peace Corps proposes to add a new system of records to its inventory of records systems subject to the Privacy Act of 1974 (5 U.S.C. 552a), as amended. This action is necessary to meet the requirements of the Privacy Act to publish in the Federal Register notice of the existence and the requirements of the Privacy Act to publish in the Federal Register notice of the existence and character of records maintained by the agency (5 U.S.C. 552a(e)(4)).

DATES: This action will be effective without further notice on June 10, 2013 unless comments are received that would result in a contrary determination.

ADDRESSES: Send written comments to the Peace Corps, ATTN: Denora Miller, Privacy Act Officer, 1111 20th Street NW., Washington, DC 20526 or by email at pcfr@peacecorps.gov. Email comments must be made in text and not in attachments.

FOR FURTHER INFORMATION CONTACT: Denora Miller, Privacy Act Officer, 202-692-1236.

SUPPLEMENTARY INFORMATION: The purpose of this system of records is to record actions taken on complaints made under the Peace Corps Interim Policy Statement (IPS) 1-12 Procedures for Handling Complaints of Volunteer/Trainee Sexual Misconduct or the section of the Peace Corps Manual into which its provisions are subsequently incorporated.

Dated: April 25, 2013.
Garry W. Stanberry,
Acting Associate Director, Management.

PC-34—PEACE CORPS

System name:

Volunteer/Trainee Sexual Misconduct Complaint Files.

Security classification:

Not applicable.

System location:

Office of the General Counsel, Peace Corps, 1111 20th St. NW., Washington, DC 20526.

Category of individuals covered by the system:

Peace Corps Volunteers or Trainees who are complainants or accused under the Peace Corps IPS 1-12 Procedures for Handling Complaints of Volunteer/Trainee Sexual Misconduct, or the section of the Peace Corps Manual into which its provisions are subsequently incorporated.

Categories of records in the system:

Names and contact information of participants, country of service, complaints, Office of Inspector General investigative report, waivers of confidentiality, confirmation of declinations from the Department of Justice as necessary, hearing panel or Regional Director records including but not limited to notices, evidentiary documents, transcripts, written submissions, witness lists, hearing panel reports, Regional Director decisions, requests for additional action, appeals and responses, Deputy Director decision, and any other records of the proceeding.

Authority for maintenance of the system:

The Peace Corps Act, 22 U.S.C. 2501, et seq.

Purpose(s):

To record actions taken on complaints made under the Peace Corps IPS 1-12 Procedures for Handling Complaints of Volunteer/Trainee Sexual Misconduct or the section of the Peace Corps Manual into which its provisions are subsequently incorporated.

Routine uses of records maintained in the system, including categories of users and the purpose of such users:

General routine use K applies to this system.

Information in a record of a particular proceeding will be releasable to the complainant and to the accused in that proceeding. Information will be released pursuant to a written consent by either the complainant or the accused only where the written consent specifically references this system of records.

As set out in IPS-1-12 .10(d), any resignation in lieu of administrative separation and any final decision that the accused Volunteer/Trainee has been found to have engaged in Sexual Misconduct shall also be placed in the Trainee/Volunteer Service File of the accused Volunteer/Trainee.

Disclosure to agency staff will be only as set out in IPS 1-12 or the section of the Peace Corps Manual into which its provisions are subsequently incorporated.

Disclosure to consumer reporting agencies:

None.

Policies and practices for storing, retrieving, accessing, retaining, and disposing of records in the system:

Storage: During the pendency of the proceeding, documents will be stored in a password-protected electronic file on a secure server accessible only to Peace Corps staff members with a formal role in the proceeding as described in IPS 1-12 or the section of the Peace Corps Manual into which its provisions are subsequently incorporated. At the termination of the proceeding, documents will be stored in a password-protected file on a secure server accessible only to the Office of the General Counsel. Documents may be stored in a locked file cabinet in a locked file room in the Office of the General Counsel.

Retrievability: By name of complainant and accused, and by country.

Safeguards: Access by agency staff will require permission of the Office of the General Counsel. Documents will be stored in a locked file cabinet in a locked file room or in digital form in a password-protected file on a secure server. Server access is limited to authorized personnel whose duties require such access.

Retention and disposal: Documents in this system of records will be retained for 30 years.

System manager(s) and address:

Office of the General Counsel, Peace Corps, 1111 20th St. NW., Washington, DC 20526.

Notification procedure:

Any individual who wants notification that this system of records contains a record about him or her should make a written request to the System Manager. Requesters will be required to provide adequate identification, such as a driver's license, employee identification card, or other identifying documentation. Additional identification may be required in some instances. Complete Peace Corps Privacy Act procedures are set out in 22 CFR Part 308. See also MS 897, Attachment B.

Record access procedures:

Any individual who wants access to his or her record should make a written request to the System Manager. Requesters will be required to provide adequate identification, such as a driver's license, employee identification card, or other identifying documentation. Additional identification may be required in some instances. Complete Peace Corps Privacy Act procedures are set out in 22 CFR Part 308.

Contesting record procedures:

Any individual who wants to contest the contents of a record should make a written request to the System Manager. Requesters will be required to provide adequate identification, such as a driver's license, employee identification card, or other identifying documentation. Additional identification may be required in some instances. Requests for correction or amendment must identify the record to be changed and the corrective action sought. Complete Peace Corps Privacy Act procedures are set out in 22 CFR Part 308.

Record source categories:

Participants in the proceeding.

Exemptions claimed for the system:

Documents originating from the Office of Inspector General will be handled under the applicable Office of Inspector General System of Records.

[FR Doc. 2013-10225 Filed 4-30-13; 8:45 am]

BILLING CODE 6051-01-P